DEPARTMENT OF ENERGY

Federal Energy Regulatory Commission

[Docket No. RP99-106-007]

TransColorado Gas Transmission Company; Notice of Proposed Changes in FERC Gas Tariff

May 15, 2002.

Take notice that on May 9, 2002, pursuant to 18 CFR 154.7, and in compliance with the April 24, 2002, Commission order (April 24th order) in Docket No. RP99-106-006, TransColorado Gas Transmission Company (TransColorado) tendered for filing and acceptance, the following tariff sheets to Original Volume No. 1 of its FERC Gas Tariff.

Original Volume No. 1

First Revised Fifth Revised Sheet No. 20, effective February 1, 2001

First Revised Sixth Revised Sheet No. 20, effective November 1, 2001

First Revised Original Sheet No. 20A, effective November 1, 2001

TransColorado states that the submitted tariff sheets reflect Final Rates approved by the April 24th order. Final Rates are slightly lower than Interim Rates that have been in effect pursuant to the terms of the settlement in Docket No. RP99-106 as approved by the Commission on January 14, 2000, in Docket No. RP99-106-004. For example, TransColorado's interruptible transportation rate drops from the currently effective $0.3340/Dth to $0.3239/Dth.

Article III(F) of the settlement in this proceeding provides that refunds will be required if total revenues exceed the levelized cost of service over the refund period. TransColorado states that it is reviewing its revenues and costs for the refund period but does not anticipate that there will be refunds.

TransColorado states that a copy of this filing has been served upon TransColorado's customers, the Colorado Public Utilities Commission and New Mexico Public Utilities Commission.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-12752 Filed 5-21-02; 8:45 am]

BILLING CODE 6717-01-P